DEPARTMENT OF THE TREASURY

Internal Revenue Service

Information Reporting Program Advisory Committee (IRPAC); Nominations

AGENCY: Internal Revenue Service, Department of Treasury.

ACTION: Request for nominations.

SUMMARY: The Internal Revenue Service (IRS) requests nominations of individuals for selection to the Information Reporting Program Advisory Committee (IRPAC). Individuals may nominate themselves or be nominated by interested organizations. Nominations should describe and document the applicant's qualifications for membership. IRPAC is comprised of no more than 35 members. There are nine positions open for calendar year 2010. It is important that IRPAC continue to represent a diverse taxpayer and stakeholder base. Accordingly, to maintain membership diversity, selection is based on the applicant's qualifications as well as the taxpayer or stakeholder base he/she represents.

The IRPAC advises the IRS on information reporting issues of mutual concern to the private sector and the Federal government. The committee works with the IRS Commissioner and other IRS leadership to provide recommendations on a wide range of information reporting administration issues. Membership is balanced to include representation from the tax professional community, businesses, banks, insurance companies, state tax administration, colleges and universities, securities, payroll, foreign financial institutions and other industries.

DATES: Written nominations must be received on or before May 29, 2009.

ADDRESSES: Nominations should be sent to: Ms. Caryl Grant, National Public Liaison, CL:NPL:SRM, Room 7559 IR, 1111 Constitution Avenue, NW., Washington, DC 20224, Attn: IRPAC Nominations. Applications may also be submitted via fax to 202-622-8345. Application packages are available on the Tax Professional's Page of the IRS Web site at http://www.irs.gov/taxpros/index.html. Application packages may also be requested by telephone from National Public Liaison, 202-927-3641 (not a toll-free number).

FOR FURTHER INFORMATION CONTACT: Ms. Caryl Grant at 202-927-3641 (not a toll-free number) or *Public_Liaison@irs.gov.

SUPPLEMENTARY INFORMATION: Established in 1991 in response to an administrative recommendation in the final Conference Report of the Omnibus Budget Reconciliation Act of 1989, the IRPAC works closely with the IRS to provide recommendations on a wide range of issues intended to improve the information reporting program and achieve fairness to taxpayers. Conveying the public's perception of IRS activities to the Commissioner, the IRPAC is comprised of individuals who bring substantial, disparate experience and diverse backgrounds to the Committee's activities.

The IRPAC members are nominated by the Commissioner with the concurrence of the Secretary of Treasury to serve a three-year term. Working groups address policies and administration issues specific to information reporting. Members are not paid for their services. However, travel expenses for working sessions, public meetings and orientation sessions, such as airfare, per diem, and transportation are reimbursed within prescribed federal travel limitations.

Receipt of applications will be acknowledged, and all individuals will be notified when selections have been made. In accordance with Department of Treasury Directive 21-03, a clearance process including, fingerprints, annual tax checks, a Federal Bureau of Investigation criminal check, and a practitioner check with the Office of Professional Responsibility will be conducted.

Equal opportunity practices will be followed for all appointments to the IRPAC in accordance with the Department of Treasury and IRS policies. To ensure that the IRPAC recommendations take into account the needs of the diverse groups served by the IRS, membership shall include, to the extent practicable, individuals who demonstrate the ability to represent minorities, women, and persons with disabilities.

Dated: March 17, 2009.
Mark Kirbabas,
Designated Federal Official, National Public Liaison.

[FR Doc. E9-6392 Filed 3-23-09; 8:45 am]

BILLING CODE 4830-01-P